DEPARTMENT OF THE INTERIOR

National Park Service

[NPS-WASO-NRNHL-1111-8910; 2200-3200-665]

National Register of Historic Places; Notification of Pending Nominations and Related Actions

Nominations for the following properties being considered for listing or related actions in the National Register were received by the National Park Service before November 12, 2011. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington DC 20005; or by fax, (202) 371-6447. Written or faxed comments should be submitted by December 19, 2011. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

CALIFORNIA

Fresno County

Fresno County Hall of Records, 2281 Tulare St., Fresno, 11000932

Los Angeles County

Karasik House, 436 Spalding Dr., Beverly Hills, 11000933

Marin County

West Point Inn, Old RR grade, Mt. Tamalpais, Mill Valley, 11000934

Placer County

Auburn City Hall and Fire House, (Auburn, CA MPS) 1103 High St., Auburn, 11000935

Auburn Fire House No. 1, (Auburn, CA MPS) El Dorado St. & Lincoln Way, Auburn, 11000936

Auburn Fire House No. 2, (Auburn, CA MPS) Corner of Washington, Main, & Commercial Sts., Auburn, 11000937

Auburn Grammar School, (Auburn, CA MPS) 1225 Lincoln Way, Auburn, 11000938

Auburn Masonic Temple, (Auburn, CA MPS) 948 Lincoln Way, Auburn, 11000939

Oddfellows Hall, (Auburn, CA MPS) 1256 Lincoln Way, Auburn, 11000940

Placer County Bank, (Auburn, CA MPS) 874 Lincoln Way, Auburn, 11000941

Riverside County

Cabot's Old Indian Pueblo Museum, 67-616 E. Desert View Ave., Desert Hot Springs, 11000942

San Diego County

Beardsley, John R. and Florence Porterfield, House, 3130 Shadowlawn St., San Diego, 11000943

San Francisco County

Sinton House, 1020 Francisco St., San Francisco, 11000944

COLORADO

Boulder County

Cardinal Mill, (Metal Mining and Tourist Era Resources of Boulder County MPS) Address Restricted, Nederland, 11000945

Chaffee County

Jacobs Building, 414 Main St., Buena Vista, 11000946

MARYLAND

Charles County

Johnsontown Tobacco Barn No. 2, (Tobacco Barns of Southern Maryland MPS) 9830 Johnsontown Rd., La Plata, 11000947

MICHIGAN

Gogebic County

Ironwood Carnegie Library, 235 E. Aurora St., Ironwood, 11000948

MINNESOTA

Ramsey County

Hamline Methodist Episcopal Church, 1514 Englewood Ave., St. Paul, 11000950

Thompson, Charles, Memorial Hall, 1824 Marshall Ave., St. Paul, 11000949

MONTANA

Jefferson County

Modern Hotel, Legion Ave, & Main St., Whitehall, 11000951

NORTH CAROLINA

Alamance County

Mebane Commercial Historic District, Bounded by N. 3rd, E. Center, N. 4th, & W. Clay Sts., Mebane, 11000952

Old South Mebane Historic District, Bounded by Holt, S. 1st, S. 5th, Austin, E. Wilson, & Roosevelt Sts., Mebane, 11000953

Cleveland County

Shiloh Presbyterian Church Cemetery, Elm St., .9 mi. S. of US 29, Grover, 11000954

Durham County

Hampton—Ellis Farm, 3305 Pat Tilley Rd., Bahama, 11000955

Wake County

Cameron Village Historic District, (Post-World War II and Modern Architecture in Raleigh, North Carolina 1945-1965 MPS) Roughly bounded by Daniels St., Wade Ave., Woodburn Rd., & Smallwood Dr., Raleigh, 11000956

[FR Doc. 2011-30961 Filed 12-1-11; 8:45 am]

BILLING CODE 4312-51-P